Title 3—

The President

Presidential Determination No. 02-21 of June 3, 2002

Presidential Determination Under Subsection 402(d)(1) of the Trade Act of 1974, as Amended—Continuation of Waiver

Authority for the Republic of Belarus

Memorandum for the Secretary of State

Pursuant to the authority vested in me under the Trade Act of 1974, as amended, Public Law 93-618, 88 Stat. 1978 (hereinafter the “Act”), I determine, pursuant to section 402(d)(1) of the waiver authority granted by section 402 of the Act will substantially promote the objectives of section 402 of the Act. I further determine that continuation of the waiver applicable to the Republic of Belarus will substantially promote the objectives of section 402 of the Act.

On my behalf, please transmit this determination to the Speaker of the House of Representatives and to the President of the Senate.

You are authorized and directed to publish this determination in the Federal Register.

B

THE WHITE HOUSE,

Washington, June 3, 2002

[FR Doc. 02-15180

Filed 6-13-02; 8:45 am]

Billing code 4710-10-P